DEPARTMENT OF HOMELAND SECURITY

Transportation Security Administration

Intent To Request Approval From OMB of One New Public Collection of Information: TSA Claims Management Program

AGENCY: Transportation Security Administration (TSA), DHS.

ACTION: Notice.

SUMMARY: TSA invites public comment on a new information collection requirement abstracted below that we will submit to the Office of Management and Budget (OMB) for approval in compliance with the Paperwork Reduction Act.

DATES: Send your comments by March 13, 2006.

ADDRESSES: Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

The TSA Claims Management Office (CMO) needs to collect additional certain information from claimants in order to thoroughly investigate and resolve tort claims against the agency. TSA receives approximately 2,000 tort claims per month arising from airport screening activities and other circumstances, including motor vehicle accidents and employee loss. The Federal Tort Claims Act (28 U.S.C. 1346(b), 1402(b), 2401(b), 2671-2680) is the authority under which the CMO adjudicates tort claims.

Description of Data Collection

The data is collected whenever a citizen believes they have experienced property loss or damage, a personal injury, or other damages due to the negligence or wrongful act or omission of a TSA employee, and decides to file a Federal tort claim against TSA. Submission of a claim is entirely voluntary and initiated by citizens. The claimants (or respondents) to this collection are typically the traveling public. Currently claimants file a claim by submitting to TSA a Standard Form 95 (SF-95), which has been approved under OMB control number 1105-0008. Because TSA requires further clarifying information from claimants, it is requesting OMB approval for two additional forms for tort claims. In addition to the SF-95, claimants will be asked to complete a Supplemental Information form, which is agency specific to TSA. If, after review of these two forms, TSA determines payment is warranted, TSA will send the claimant a third form requesting banking information in order to direct payment to the claimant.

Claim instructions and forms are available through the Internet at http://www.tsaclaims.org (also accessible via the TSA Web site at http://www.tsa.gov). However, currently claimants must download these forms and mail or fax them to TSA. TSA is developing an online claim submission system by which claimants may submit claims electronically. TSA is also seeking OMB approval for the online claim submission system, which, once developed, will be an option for claims submissions, in addition to the paper SF-95 and Supplemental Information forms. The online system will streamline the information collection so that claimants can input all the necessary information in one location and ensure their claims are completed sufficiently the first time. The online system will also increase TSA's efficiency in processing claims.

On the Supplemental Information form, claimants are asked to provide additional claim information including: (1) E-mail address, (2) location of incident within the airport, (3) airport, (4) complete travel itinerary, (5) whether baggage was delayed by airline (6) why they believe TSA was negligent, (7) whether they used a third-party baggage service, (8) whether they were traveling under military orders, and (9) whether they submitted claims with the airlines or insurance.

If TSA determines payment is warranted, TSA sends the claimant a third form where TSA requests: (1) Claimant signature, (2) banking information (routing and accounting numbers), and (3) Social Security number (required by the U.S. Treasury for all Government payments to the public pursuant to 31 U.S.C. 3325).

Under the current system of claims submitted by mail or fax, TSA estimates there will be approximately 28,800 respondents on an annual basis, for a total annual hour burden of 19,200 hours. Once the online system is operational, TSA estimates that out of the 28,800 annual respondents, approximately 70 percent, or 20,160, will submit claims electronically, for a total annual hour burden of 5,040 hours; and that approximately 30 percent, or 8,640, will continue to submit claims by mail or fax, for a total annual hour burden of 2,160 hours.

Use of Results

TSA will use all data collected from claimants to investigate and analyze tort claims against the agency to determine alleged TSA liability and to reimburse claimants when claims are approved. In some cases, TSA may use the information to identify victims of theft or to aid any criminal investigations into property theft.

Issued in Arlington, Virginia, on January 5, 2006.
Lisa S. Dean,
Privacy Officer.

[FR Doc. E6-138 Filed 1-10-06; 8:45 am]

BILLING CODE 4910-62-P